DEPARTMENT OF COMMERCE

International Trade Administration

19 CFR Part 361

[Docket No. 210122-0011]

RIN 0625-AB18

Aluminum Import Monitoring and Analysis System: Delay of Effective Date

AGENCY: Enforcement and Compliance, International Trade Administration, Department of Commerce.

ACTION: Final rule; delay of effective date; request for comments.

SUMMARY: The U.S. Department of Commerce (Commerce) is delaying the effective date of the final rule, entitled “Aluminum Import Monitoring and Analysis System,” from January 25, 2021 until March 29, 2021. Commerce is also soliciting comments on the final rule.

DATES: The effective date of the rule amending 19 CFR part 361published at 85 FR 83804 (Dec. 23, 2020), is delayed from January 25, 2021, to March 29, 2021.

To be assured of consideration, written comments on the final rule must be received no later than February 26, 2021.

ADDRESSES: Submit comments only through the Federal eRulemaking Portal at http://www.Regulations.gov, Docket No. ITA-2021-0001.¹ Due to the COVID-19 situation, Commerce is not able to accept comments submitted by mail or hand-delivery at this time. All comments submitted during the comment period permitted by this document will be a matter of public record and will generally be available on the Federal eRulemaking Portal at http://www.Regulations.gov. Commerce will not accept response comments accompanied by a request that part or all of the material be treated confidentially because of its business proprietary nature or for any other reason. Therefore, do not submit confidential business information or otherwise sensitive or protected information.

¹ Comments on the previously issued proposed rule, Aluminum Import Monitoring and Analysis System, 85 FR 23748 (April 29, 2020) (Proposed Rule), can be found by searching for the Proposed Rule on the Federal eRulemaking portal at http://www.regulations.gov.

Any questions concerning the process for submitting comments should be submitted to Enforcement & Compliance Communications office at (202) 482-0063 or ECCommunications@trade.gov.

The AIM system website is https://www.trade.gov/aluminum.

FOR FURTHER INFORMATION CONTACT: Julie Al-Saadawi at (202) 482-1930 or Jessica Link at (202) 482-1411.

SUPPLEMENTARY INFORMATION: On December 23, 2020, Commerce published the final rule and accompanying regulations establishing the Aluminum Import Monitoring and Analysis (AIM) system.² The original effective date for the Final Rule was January 25, 2021. Commerce is now delaying the effective date until March 29, 2021.

² Aluminum Import Monitoring and Analysis System, 85 FR 83804 (Dec. 23, 2020) (Final Rule).

This delay in effective date is necessary to allow the incoming Administration time to review the Final Rule and consider any additional comments before implementation. Unless otherwise announced, the majority of the final rule will be effective on March 29, 2021. The remaining portions of the final rule concerning an option to state “unknown” for certain fields on the aluminum license form will be effective on December 24, 2021, as originally stated in the final rule. For further background and information, see the Final Rule. Parties are invited to comment on all aspects of the Final Rule and the AIM system.

The AIM system website (https://www.trade.gov/aluminum) continues to be operational. However, licenses will not be required for covered aluminum imports until on or after March 29, 2021. Further guidance on licenses already issued and the issuance of new licenses during the intervening period prior to March 29, 2021 will be provided on the AIM system website.

Dated: January 22, 2021.
Christian Marsh,
Acting Assistant Secretary for Enforcement and Compliance.

[FR Doc. 2021-01804 Filed 1-22-21; 4:15 pm]

BILLING CODE 3510-DS-P